ENVIRONMENTAL PROTECTION AGENCY

[EPA-HQ-OPPT-2017-0318; FRL-9980-23-OEI]

Information Collection Request Submitted to OMB for Review and Approval; Comment Request; Request for Contractor Access to TSCA CBI (Renewal)

AGENCY: Environmental Protection Agency (EPA).

ACTION: Notice.

SUMMARY: The Environmental Protection agency (EPA) has submitted the following information collection request (ICR) to the Office of Management and Budget (OMB) for review and approval in accordance with the Paperwork Reduction Act (PRA): Request for Contractor Access to TSCA CBI (EPA ICR No. 1250.11, OMB Control No. 2070-0075). This is a request to renew the approval of an existing ICR, which is currently approved through August 31, 2018. EPA did not receive any relevant comments in response to the previously provided public review opportunity issued in the Federal Register of December 19, 2017. With this submission to OMB, EPA is providing an additional 30 days for public review and comment.

DATES: Comments must be received on or before September 13, 2018.

ADDRESSES: Submit your comments, identified by Docket ID number EPA-HQ-OPPT-2017-0318, to both EPA and OMB as follows:

• To EPA online using http://www.regulations.gov (our preferred method) or by mail to: EPA Docket Center, Environmental Protection Agency, Mail Code 28221T, 1200 Pennsylvania Ave. NW, Washington, DC 20460, and

• To OMB via email to oira_submission@omb.eop.gov. Address comments to OMB Desk Officer for EPA.

EPA's policy is that all comments received will be included in the public docket without change, including any personal information provided, unless the comment includes profanity, threats, information claimed to be Confidential Business Information (CBI), or other information whose disclosure is restricted by statute.

FOR FURTHER INFORMATION CONTACT: Brandon Mullings, Environmental Assistance Division (7507-M), Office of Pollution Prevention and Toxics, Environmental Protection Agency, 1200 Pennsylvania Ave. NW, Washington, DC 20460; telephone number: (202) 564-4826; email address: mullings.brandon@epa.gov.

SUPPLEMENTARY INFORMATION:

Docket: Supporting documents, including the ICR that explains in detail the information collection activities and the related burden and cost estimates that are summarized in this document, are available in the docket for this ICR. The docket can be viewed online at http://www.regulations.gov or in person at the EPA Docket Center, West William Jefferson Clinton Bldg., Rm. 3334, 1301 Constitution Ave. NW, Washington, DC. The telephone number for the Docket Center is (202) 566-1744. For additional information about EPA's public docket, visit http://www.epa.gov/dockets.

ICR status: This ICR is currently scheduled to expire on August 31, 2018. Under OMB regulations, an agency may continue to conduct or sponsor the collection of information while this submission is pending at OMB. Under PRA, 44 U.S.C. 3501 et seq., an agency may not conduct or sponsor, and a person is not required to respond to, a collection of information unless it displays a currently valid OMB control number. The OMB control numbers are displayed either by publication in the Federal Register or by other appropriate means, such as on the related collection instrument or form, if applicable. The display of OMB control numbers for certain EPA regulations is consolidated in 40 CFR part 9.

Abstract: This ICR covers the information collection activities associated with the Agency's for allowing contractors to handle Toxic Substances Control Act (TSCA) Confidential Business Information (CBI). Certain employees of companies working under contract to EPA require access to CBI collected under the authority of TSCA in order to perform their official duties. All individuals desiring access to TSCA CBI must obtain and annually renew official clearance to access the TSCA CBI. As part of the process for obtaining TSCA CBI clearance, EPA requires certain information about the contracting company and about each contractor employee requesting TSCA CBI clearance, primarily the name, Social Security Number and EPA identification badge number of the employee, the type of TSCA CBI clearance requested, the justification for such clearance, and the signature of the employee to an agreement with respect to access to and use of TSCA CBI. This information collection applies to the reporting activities associated with contractor personnel applying for new or renewed clearance for TSCA CBI.

Responses to the collection of information are voluntary but failure to provide the requested information will prevent a contractor employee from obtaining clearance to access TSCA CBI. Respondents may claim all or part of a response confidential. EPA will disclose information that is covered by a claim of confidentiality only to the extent permitted by, and in accordance with, the procedures in TSCA section 14 and 40 CFR part 2.

Form Numbers: EPA Form No. 7740-06.

Respondents/affected entities: Entities potentially affected by this ICR are companies under contract to EPA to provide certain services, whose employees must have access to TSCA CBI to perform their duties.

Estimated number of respondents: 21 (total).

Frequency of response: Annual.

Total estimated burden: 341 hours (per year). Burden is defined at 5 CFR 1320.3(b).

Total estimated cost: $19,305 (per year), which includes $0 annualized capital investment or maintenance and operational costs.

Changes in the estimates: There is a decrease of 142 hours in the total estimated respondent burden compared with that identified in the ICR currently approved by OMB. This decrease reflects EPA's a decrease in the number of contractor employees that need TSCA CBI clearance. This change is an adjustment.

Courtney Kerwin,
Director, Collection Strategies Division.

[FR Doc. 2018-17438 Filed 8-13-18; 8:45 am]

BILLING CODE 6560-50-P